FEDERAL ACCOUNTING STANDARDS ADVISORY BOARD

Notice of Publication of Federal Accounting Standards Advisory Board (FASAB) Annual Report and Three-Year Plan

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has published The Annual Report for Fiscal Year 2014 and Three-Year Plan. The combined report allows stakeholders to consider FASAB's progress and invites them to advise the Board about its plans. Your views regarding the content of the annual report and the Board's project priorities for the next three years are requested by January 31, 2015.

The Report and Three-Year Plan are available at http://www.fasab.gov/about/our-annual-reports/.

FOR FURTHER INFORMATION CONTACT: Wendy M. Payne, Executive Director, 441 G St. NW., Mail Stop 6H19, Washington, DC 20548 or call 202-512-7350.

Authority: Federal Advisory Committee Act, Pub. L. 92-463.

Dated: November 21, 2014.
Charles Jackson,
Federal Register Liaison Officer.

[FR Doc. 2014-28058 Filed 11-26-14; 8:45 am]

BILLING CODE 1610-02-P